DEPARTMENT OF COMMERCE

National Institute of Standards and Technology

National Conference on Weights and Measures 98th Interim Meeting

AGENCY: National Institute of Standards and Technology, Commerce.

ACTION: Notice.

SUMMARY: The 2013 Interim Meeting of the National Conference on Weights and Measures (NCWM) will be held January 27 to 30, 2013. This notice contains information about significant items on the NCWM Committee agendas, but does not include all agenda items. As a result, the items are not consecutively numbered.

DATES: The meeting will be held January 27 to 30, 2013.

ADDRESSES: The meeting will be held at the Francis Marion Hotel located at 387 King Street, Charleston, South Carolina 29403.

FOR FURTHER INFORMATION CONTACT: Ms. Carol Hockert, Chief, NIST, Office of Weights and Measures, 100 Bureau Drive, Stop 2600, Gaithersburg, MD 20899-2600. You may also contact Ms. Hockert at (301) 975-5507 or by email at carol.hockert@nist.gov. The meetings are open to the public, but a paid registration is required. Please see NCWM Publication 15 “Interim Meeting Agenda” (www.ncwm.net) to view the meeting agendas, registration forms and hotel reservation information.

SUPPLEMENTARY INFORMATION: Publication of this notice on the NCWM's behalf is undertaken as a public service; NIST does not endorse, approve, or recommend any of the proposals or other information contained in this notice or in the publications of the NCWM.

The NCWM is an organization of weights and measures officials of the states, counties, and cities of the United States, federal agencies, and representatives from the private sector. These meetings bring together government officials and representatives of business, industry, trade associations, and consumer organizations on subjects related to the field of weights and measures technology, administration and enforcement. NIST participates to encourage cooperation between federal agencies and the states in the development of legal metrology requirements. NIST also promotes uniformity among the states in laws, regulations, methods, and testing equipment that comprise the regulatory control of commercial weighing and measuring devices, packaged goods, and other trade and commerce issues.

The following are brief descriptions of some of the significant agenda items that will be considered along with other issues at the NCWM Interim Meeting. Comments will be taken on these and other issues during several public comment sessions. At this stage, the items are proposals. This meeting also includes work sessions in which the Committees may also accept comments, and where they will finalize recommendations for NCWM consideration and possible adoption at its 2013 Annual Meeting that will be held at the Seelbach Hilton Hotel located at 500 South Fourth Street in Lexington, Kentucky, on July 14-18, 2013. The Committees may withdraw or carryover items that need additional development.

Some of the items listed below provide notice of projects under development by groups working to develop specifications, tolerances, and other requirements for devices used in retail sales of electricity for recharging vehicles and in sub-metering applications and the use of Global Positioning System (GPS) devices for fare determinations in the vehicle-for-hire industry (e.g., taxis and limousines). Also included are notices about efforts to establish methods of sale for pressurized containers and to develop test procedures for verifying the net contents of printer ink and toner cartridges. These notices are intended to make interested parties aware of these development projects and to make them aware that reports on the status of the project will be given at the Interim Meeting. The notices are also presented to invite the participation of manufacturers, experts, consumers, users and others who may be interested in these efforts.

The Specifications and Tolerances Committee (S&T Committee) will consider proposed amendments to NIST Handbook 44, “Specifications, Tolerances, and other Technical Requirements for Weighing and Measuring Devices.” Those items address weighing and measuring devices used in commercial applications, that is, devices that are used to buy from or sell to the public or used for determining the quantity of product sold among businesses. Issues on the agenda of the NCWM Laws and Regulations Committee (L&R Committee) relate to proposals to amend NIST Handbook 130, “Uniform Laws and Regulations in the area of Legal Metrology and Engine Fuel Quality” and NIST Handbook 133, “Checking the Net Contents of Packaged Goods.”

NCWM Specifications and Tolerances Committee

The following items are proposals to amend NIST Handbook 44:

Scales

Item 320-1: S.6.4. Railway Track Scales and Appendix D—Definitions

Railway track scales are used throughout the country for the determination of freight charges and for commercial transactions for a wide variety of commodities (e.g., coal, grains and chemicals) totaling billions of dollars each year. The intent of this proposal is to amend NIST Handbook 44 to recognize changes to the definition of how nominal capacity is determined for railway track scales. The new definition was recently developed by Committee 34—Scales, of the American Railway Engineering and Maintenance-of-Way Association and approved for inclusion in the American Association of Railroads (AAR) Scale Handbook. Adoption of the proposed revision will ensure that NIST Handbook 44 is consistent with the AAR Scale Handbook, thus, ensuring uniformity in state laws and regulations, which apply to railway scales, that are used extensively in interstate commerce.

Vehicle Tank Meters

Item 331-2: T.4. Product Depletion Test

The vehicle tank meters mounted on multi-compartment tank trucks are used to deliver a wide variety of fuels and other products to businesses and consumers alike (e.g., diesel fuel, home heating fuel). A product depletion test is conducted to ensure that the performance accuracy of a meter remains within tolerance when one compartment in the tank truck empties of product and the delivery is continued from another compartment. This proposal would amend NIST Handbook 44 to base the product depletion test tolerances on the meter's maximum flow rate (a marking required on all meters), rather than the marked meter size (this marking is required for meters manufactured in 2009 or later). The intent of this proposal is to ensure consistent application of the tolerances to product depletion tests conducted on older and newer meters. It will also eliminate an unintentional gap that allows an unreasonably large tolerance to be applied to small meters.

Mass Flow Meters

Item 337-1: Appendix D—Definitions: Diesel Liter and Diesel Gallon Equivalents of Natural Gas

In 1994 both liter and gallon equivalents for gasoline (based on an “average” equivalent energy content developed by the industry) were established by the NCWM based on the industry's request to provide a means for consumers to make value and fuel economy comparisons between compressed natural gas (CNG) and a liter or gallon of gasoline in order to promote broader acceptance and use of CNG as a vehicle fuel. This proposal would establish a “diesel liter equivalent (DLE)” and a “diesel gallon equivalent (DGE)” and equivalent mass values for these units when they are used in retail vehicle refueling applications. The use of these units is to inform consumers that a DLE or DGE of “compressed” or “liquefied” natural gas contains approximately the same amount of energy they would receive if they purchased a liter or gallon of diesel fuel. The submitter of this proposal believes that adoption and use of the DLE or DGE in retail fuel sales would make it easier for consumers to make price, value, and fuel economy comparisons between an equivalent liter or gallon of compressed natural gas and diesel fuel. See also Item 337-2: S.1.2. Compressed Natural Gas Dispensers, S.1.3.1.1., Compressed Natural Gas Used as an Engine Fuel, and S.5.2. Marking of Gasoline Volume Equivalent Conversion Factor, and Item 232-1: Section 2.27. Retail Sales of Natural Gas Sold as a Vehicle Fuel in the Laws and Regulations Committee Agenda.

Use of GPS Systems for Fare Determinations—Developing Item

Item 360-6: Global Positioning Systems for Fare Determinations in the Vehicle for Hire Industry

This item is presented to raise awareness of work that is underway to amend Section 5.54. “Taximeters” to incorporate specifications, tolerances, user and other technical requirements for devices that incorporate Global Positioning Satellite (GPS) systems, and associated software commercially to compute fares or fees based upon distance and/or time measurements. GPS systems and applications designed to compute fares based upon distance and/or time measurements are being introduced into the vehicle for-hire industry (e.g., taxicabs, limousines) across the country. Appropriate technical and device accuracy requirements must be developed for manufacturers and users of these devices, and for weights and measures officials so that consumers can be assured of accurate fares associated with the transportation service provided and to enable consumers to make value comparisons between competing services.

NCWM Laws and Regulations Committee (L & R Committee)

The following items are proposals to amend NIST Handbook 130 or NIST Handbook 133:

NIST Handbook 130—Uniform Regulation for the Method of Sale of Commodities

Item 231-2: Section 10.3. Aerosols and Similar Pressurized Containers

This proposal is intended to provide an appropriate method of sale (i.e., the product must be offered for sale by either weight or fluid volume but not both) for packages utilizing the Bag on Valve (BOV) technology. BOV means a pressurized package where a propellant is not expelled with the product when the valve is activated. BOV packaging has been in the marketplace for many years and is used to sell the same products sold in aerosol containers (e.g., sunscreen, wound wash, shaving cream, and car products). Some BOV packages have their net contents declared in terms of fluid volume. Section 10.3. currently requires aerosols and similar pressurized containers to disclose their net quantity in terms of weight. Because BOV containers (net contents in fluid volume) are being used to sell the same type of products dispensed from aerosol containers (net contents in weight), consumers are unable to make value comparisons.

Item 232-6: Packaged Printer Ink and Toner Cartridges

This proposal was originally intended to establish a method of sale for inkjet and toner cartridges to ensure that consumers are informed about the net quantity of contents of packages and so they can make value comparisons. The original proposals would have required manufacturers (and aftermarket refillers) to declare net quantities to facilitate both value comparison by consumers and verification by weights and measures officials, and to ensure equity between buyer and seller and fair competition between sellers, manufacturers and refillers. At the 2012 NCWM Annual Meeting a newly formed Printer Ink and Toner Cartridge Gravimetric Package Testing Task Group (Task Group) met to consider test methods that could be used to verify the net contents of packages. The Task Group will report on its progress at the meeting. See also Item 260-3 Gravimetric Testing of Printer Ink and Toner Cartridges for more information.

Retail Sale of Electricity for Vehicle Recharging—Developing Item

Item 270-2: Uniform Method of Sale Regulation, Section 2.XX. Retail Sale of Electricity/Vehicle

A workgroup on retail sales of electricity for vehicle recharging has been formed to engage manufacturers, users and others involved in vehicle recharging and the weights and measures community in helping to develop a proposed method of sale for electricity sold at the retail level to recharge vehicles. Any stakeholder, including vehicle and device manufacturers, consumers, public utility commissions, weights and measures officials, smart grid experts, and all others interested in the development of a method of sale for electricity and other requirements for devices use to sell electricity to recharge vehicles are invited to participate in this effort. In addition to method of sale requirements, the workgroup will consider proposals for specifications, tolerances, and user requirements for measuring devices, and possible requirements for device security and information posting requirements (e.g., information on service fees, charging rates and how to contact the party responsible for the device). A work group report will be presented at the meeting.

Uniform Engine Fuels and Automotive Lubricants Regulation

Item 237-2: Section 2.1.4. Minimum Antiknock Index (AKI), Section 2.1.5. Minimum Motor Octane Number and Table 1. Minimum Antiknock Index Requirements

This is a proposal to discontinue the obsolete practice of altitude de-rating of octane, to establish a national octane baseline, and to establish uniform octane labeling requirements. The proposal will amend the Engine Fuels and Automotive Lubricants Regulation to bring it into agreement with efforts underway in the ASTM Gasoline and Oxygenates Subcommittee to include a minimum motor octane number (MON) performance limit in its specifications for gasoline. Vehicles manufactured after 1984 include engine computer controls that maintain optimal performance when they use gasoline with an octane of 87 AKI or higher. The current practice of altitude de-rating of octane, results in octanes below 87 AKI which reduces a vehicle's efficiency and fuel economy. Increasingly, more vehicles are boosted (turbocharged/supercharged) eliminating the intake air effects caused by altitude. Additionally, consumers using gasoline with an octane AKI below 87 may void their vehicle warranty.

Dated: December 28, 2012.
Willie E. May,
Associate Director for Laboratory Programs.

[FR Doc. 2012-31596 Filed 1-2-13; 8:45 am]

BILLING CODE 3510-13-P